DEPARTMENT OF VETERANS AFFAIRS

Advisory Committee on Former Prisoners of War, Notice of Meeting

The Department of Veterans Affairs (VA) gives notice under the Federal Advisory Committee Act, 5 U.S.C. ch. 10., that the Advisory Committee on Former Prisoners of War (Committee) will conduct a virtual meeting on August 27, 2025. Public participation will commence as follows:

Date | Time | Location | Open session
August 27, 2025 | 11:00 a.m.-5:00 p.m. Eastern Standard Time (EST) | Cisco Webex Link and Call-in Information Below | Yes.

The meeting session is open to the public.

The purpose of the Committee is to advise the Secretary of Veterans Affairs on the administration of benefits under title 38 U.S.C., for Veterans who are former prisoners of war (FPOW) and the needs of these Veterans, in the areas of compensation, health care, and rehabilitation.

The Committee will assemble in open session for discussion and briefings from VA Central Office and Veterans Benefits Administration officials who will provide updates on issues impacting FPOW Veterans and their families.

On August 27, 2025, the public comment period will be open for 30 minutes from 4:10 p.m. to 4:40 p.m. EST. The comment period may end sooner, if there are no comments presented or they are exhausted before the end time. Any member of the public may submit a 1-2-page commentary for the Committee's review no later than June 30, 2025.

Any member of the public wishing to virtually attend the meeting or seeking additional information should contact, Julian Wright, Designated Federal Officer, Department of Veterans Affairs, Advisory Committee on Former Prisoners of War at Julian.Wright2@va.gov.

Join On Your Computer or Mobile App: https://veteransbaffairs.bwebex.com/veteransaffairs/j.php?MTID=m0c9b03a7633be39b2f36cf36b997ed30.

You can dial 1-404-397-1596 USA Toll Number and enter the access code below.

Access code: 2822 223 0344#

Dated: July 1, 2025.
Jelessa M. Burney,
Federal Advisory Committee Management Officer.

[FR Doc. 2025-12468 Filed 7-2-25; 8:45 am]

BILLING CODE 8320-01-P